DEPARTMENT OF JUSTICE

[AAG/A Order No. 284-2002]

Privacy Act of 1974; System of Records

Pursuant to the provisions of the Privacy Act of 1974 (5 U.S.C. 552a), the Immigration and Naturalization Service (INS), Department of Justice, proposes to establish and publish a new system of records for which no public notice consistent with the provisions of 5 U.S.C. 552a(e)(4) have been published.

This system of records is entitled:

Human Resources File Manager System, JUSTICE/INS-034

In accordance with 5 U.S.C. 552a(e)(4) and (11), the public is given a 30-day period in which to comment on the routine uses; the Office of Management and Budget (OMB), which has oversight responsibility under the Act, requires a 40-day period in which to conclude its review of the system. Therefore, please submit any comments by October 4, 2002. The public, OMB and the Congress are invited to submit any comments to Mary Cahill, Management Analyst, Management and Planning Staff, Justice Management Division, Department of Justice, Washington, DC 20530 (Room 1400, National Place Building).

In accordance with 5 U.S.C. 552a(r), the Department has provided a report to OMB and the Congress.

Dated: August 23, 2002.
Robert F. Diegelman,
Acting Assistant Attorney General for Administration.

JUSTICE/INS-034

System Name:

Human Resources Management System (HRMS)

System Location:

Immigration and Naturalization Service (INS) Administrative Centers at the following locations:

Burlington, Vermont, 70 Kimball Avenue, South Burlington, Vermont, 05403-6813;

Dallas, Texas, 1460 Prudential Drive, Dallas, Texas 75235; and Laguna Niguel, California, 24000 Avila Road, Laguna Niguel, California 92677.

Categories of Individuals Covered by the System:

Federal employees of the INS.

Categories of Records in the System:

Records in this system contain standard personal data such as the social security number, name of employee, date of birth, and official start date. This data acts as a “pointer” to tracking the location of each employee's Official Personnel Folder (OPF), Employee Performance Folder (EPF), Payroll Folder (PAY) and/or Medical Folder (EMF). Also included in this system is the status of the employee (i.e., whether the individual has separated from service or is still active) and whether the file has been destroyed, missing and/or lost.

Authority for Maintenance of the System:

5 U.S.C. 1104 and 4305 and Executive Order 9830.

Purpose:

The system is used by the Human Resource Staff of each Administrative Center in INS to track the location of all personnel related files (i.e., the OPF, EPF, PAY and EMF).

Routine Uses of Records Maintained in the System, Including Categories of Users and the Purpose of Such Use:

A. To the news media and the public pursuant to 28 CFR 50.2 unless it is determined that release of the specific information in the context of a particular case would constitute an unwarranted invasion of personal privacy.

B. To a Member of Congress or staff acting upon the Member's behalf when the Member or staff requests the information on behalf of and at the request of the individual who is the subject of the record.

C. To the General Services Administration and National Archives and Records Administration in record management inspections conducted under the authority of 44 U.S.C. 2904 and 2906.

D. To contractors, grantees, experts, consultants, students, and others performing or working on a contract, service, grant, cooperative agreement, or other assignment for the Federal Government, when necessary to accomplish an agency function related to this system of records.

E. Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Records are stored on magnetic media (i.e., standard computer hard drive).

Retrievability:

Various combinations of social security number, name, or birth date of the individual on whom they are maintained retrieve the records.

Safeguards:

INS offices are located in buildings under security guard, and access to premises is by official identification. Access to the automated system is controlled by restricted password for use of remote terminals in secured areas.

Retention and Disposal:

Records in this system are retained and disposed of in accordance with General Records Schedule 20.

System Manager and Address:

The system administrator at each of the Administrative Center locations cited in “System Location.”

Notification Procedure:

Inquiries should be addressed to the respective system manager listed above.

Record Access Procedures:

Requests for access to a record from this system shall be in writing. If a request for access is made by mail the envelope and letter shall be clearly marked “Privacy Act Request.” The requester shall include a description of the general subject matter and if known, the related file number. To identify a record relating to an individual, the requester should provide his or her full name, date and place of birth, verification of identity (in accordance with 8 CFR 103.2(b)), and any other identifying information which may be of assistance in locating the record. The requester shall also provide a return address for transmitting the records to be released.

Contesting Record Procedures:

Any individual desiring to contest or amend information maintained in this record should direct his or her request to the INS office where the record is maintained or if unknown to the INS FOIA/PA Officer at 425 I Street NW., Washington DC 20536. The request should state clearly what information is being contested, the reasons for contesting it, and the proposed amendment to the information.

Record Source Categories:

Basic information contained in this system is a result of personnel and payroll history documents that have been supplied by employees.

Systems Exempted From Certain Provisions of the Act:

None.

[FR Doc. 02-22459 Filed 9-3-02; 8:45 am]

BILLING CODE 4410-10-P